DEPARTMENT OF HOMELAND SECURITY

Coast Guard

[COTP Port Arthur-04-011]

Notice and Request for Comments; Letter of Recommendation, LNG Cameron Parish, LA

AGENCY: Coast Guard, DHS.

ACTION: Notice and request for public comment.

SUMMARY: The U.S. Coast Guard Captain of the Port (COTP), Port Arthur, is preparing a letter of recommendation as to the suitability of the Sabine Pass Channel waterway for liquefied natural gas (LNG) marine traffic. The COTP is looking for comments and related material pertaining specifically to the Maritime Operation, Waterways Management, and Port Security aspects of the proposed LNG Facility.

DATES: Comments and related material pertaining specifically to the Maritime Operation, Waterways Management, and Port Security aspects of the proposed LNG Facility must reach the Coast Guard on or before September 7, 2004.

ADDRESSES: You may mail comments and related material to: Commanding Officer, U.S. Coast Guard Marine Safety Office, 2875 Jimmy Johnson Blvd., Port Arthur, TX 77640, ATTN: Waterways Management Branch.

You may send comments and related material by fax to: U.S. Coast Guard Marine Safety Office (MSO) Port Arthur Attention: Waterways Management Branch (409) 723-6534. U.S. Coast Guard MSO Port Arthur maintains a file for this notice. Comments and material received from the public during the comment period will become part of this file and will be available for inspection or copying at U.S. Coast Guard MSO Port Arthur, Waterways Management Branch, between the hours of 7:30 a.m. to 4 p.m., Monday through Friday, excluding Federal holidays.

FOR FURTHER INFORMATION CONTACT: Lieutenant (Junior Grade) Jennifer Hnatow at U.S. Coast Guard MSO Port Arthur, (409) 723-6501.

SUPPLEMENTARY INFORMATION:

Request for Comments

We encourage you to participate by submitting comments and related material pertaining specifically to the Maritime Operation, Waterways Management, and Port Security aspects of the proposed LNG Facility. If you do so, please include your name and address, identify the docket number [COTP Port Arthur-04-011], indicate the specific section of this document to which each comment applies, and give the reason for each comment. Please submit all comments and related material in an unbound format, no larger than 8½ by 11 inches, suitable for copying and electronic filing. For a returned receipt, please enclose a stamped, self-addressed postcard or envelope. We will consider all comments and material received during the comment period. The recommendation made by this office may be affected by comments received.

Public Meeting

We do not now plan to hold public meetings. But you may submit a request for meetings by writing to Commanding Officer, U.S. Coast Guard MSO Port Arthur at the address under ADDRESSES explaining why they would be beneficial. If we determine that public meetings would benefit the recommendation process, we will hold them at a time and place announced by a later notice in the Federal Register.

The Federal Energy Regulatory Commission (FERC) is responsible for authorizing the siting and construction of onshore LNG facilities under Section 3 of the Natural Gas Act (NGA) (15 U.S.C. 717 et seq.). FERC also authorizes the construction and operation of interstate natural gas pipelines that may be associated with the LNG facilities under section 7 of the NGA. The FERC conducts environmental, safety, and security reviews of LNG plants and related pipeline facilities, and as the lead Federal Agency prepares the overall National Environmental Policy Act (NEPA) documentation (18 CFR part 380). As required by NEPA, FERC will issue a Draft Environmental Impact Statement (DEIS) for review and comment by the public. After issuing the DEIS for this proposed LNG facility and pipeline project, FERC will hold a public meeting. The date, time, and location of this meeting will be published on FERC's Web site, http://www.ferc.gov, under Docket Nos. CP04-47-000, CP04-38-000, CP04-39-000, and CP04-40-000.

Background and Purpose

In accordance with the requirements in 33 CFR 127.009, the U.S. Coast Guard COTP Port Arthur, is preparing a letter of recommendation as to the suitability of the Sabine Pass Channel waterway for liquefied natural gas (LNG) marine traffic. The letter of recommendation is in response to a Letter of Intent to operate a LNG facility in Cameron Parish, LA. This facility would consist of an LNG import terminal and storage facilities and approximately 16 miles of 42-inch-diameter pipeline in Cameron Parish. The Letter of Intent is available in the docket where indicated under ADDRESSES.

Sabine Pass LNG, L.P. and Cheniere Sabine Pass Pipeline Company (collectively referred to as Cheniere Sabine) propose to build a new LNG import, storage, and vaporization terminal in a rural part of Cameron Parish, Louisiana, across the Sabine Pass Channel from Sabine Pass, Texas; and a natural gas pipeline to transfer up to 2.6 billion cubic feet per day of imported natural gas. Cheniere Sabine has acquired 568 acres of land, formerly used for dredge spoil placement by the U.S. Army Corps of Engineers, for the proposed LNG terminal facility. The LNG import terminal would import, store, and vaporize an average of approximately 2,600 million standard cubic feet per day (MMscfd) of LNG, with an installed capacity of 2,880 MMscfd, for supply to U.S. natural gas markets. Cheniere Sabine seeks authority to construct and operate the following new facilities:

1. A new marine basin connected to the Sabine Pass Channel that would include a ship maneuvering area and two protected berths to unload up to 300 LNG ships per year with a ship capacity ranging up to 250,000 cubic meters (m³) of LNG;

2. Two 30-inch-diameter stainless steel insulated LNG transfer lines to transfer the LNG from the berth facilities to the LNG storage tanks;

3. Three all-metal, double-walled, single containment, top-entry LNG storage tanks, each with a nominal working volume of approximately 160,000 m³ and each with secondary containment dikes to contain 110 percent of the gross tank volume;

4. Sixteen high-pressure submerged combustion LNG vaporizers with a capacity of approximately 180 MMscfd each, as well as other associated vaporization equipment, including pumps, boil-off gas compressors, instrumentation, and safety systems;

5. Ancillary utilities, buildings, and service facilities, including hazard detection and fire response systems;

6. Approximately 16 miles of 42-inch-diameter natural gas pipeline extending from the LNG import terminal to an interconnection with four existing pipelines at Johnson's Bayou;

7. Three metering stations, one at the LNG terminal site, one at an interconnection with Natural Gas Pipeline Company of America, and one at the interconnection with the existing pipelines at Johnson's Bayou; and

8. Associated pipeline facilities including a pig launcher receiver facility, and three mainline valves, and one side valve.

Construction of the LNG terminal facilities would take approximately 3 years, and the pipeline would take approximately 4 to 6 months. Cheniere Sabine proposes to place the project in service before the 2007 winter heating season.

In preparation for issuance of the letter of recommendation, the COTP will consider all information submitted by the owner or operator under the requirements of 33 CFR 127.007, as well as comments received from the public.

Additional Information

Additional information can be found in the Federal Energy Regulatory Commission Document entitled “Notice of Intent To Prepare an Environmental Impact Statement for the Proposed Sabine Pass LNG and Pipeline Project and Request for Comments on Environmental Issues and Notice of Public Scoping Meeting and Site Visit”, Docket Nos. CP04-47-000, CP04-38-000, CP04-39-000, and CP04-40-000 dated February 20, 2004, which is available for download at http://www.ferc.gov.

Dated: July 15, 2004.
Sharon K. Richey,
Captain, U.S. Coast Guard, Captain of the Port, Port Arthur.

[FR Doc. 04-17826 Filed 8-4-04; 8:45 am]

BILLING CODE 4910-15-P